DEPARTMENT OF HEALTH AND HUMAN SERVICES

Food and Drug Administration

21 CFR Part 510

New Animal Drugs

CFR Correction

In Title 21 of the Code of Federal Regulations, parts 500 to 599, revised as of April 1, 2005, on page 46, in § 510.600, paragraph (c)(1), the entry for “Intervet, Inc.” is corrected by adding “Millsboro, DE 19966” at the end of the entry.

[FR Doc. 06-55502 Filed 1-12-06; 8:45 am]

BILLING CODE 1505-01-D